TENNESSEE VALLEY AUTHORITY

Meeting Number 1545

AGENCY: Tennessee Valley Authority (Meeting No. 1545).

Time and Date: 9 a.m. (CDT), May 21, 2003, Athens State University, Sandridge Student Center Ballroom, 300 North Beaty Street, Athens, Alabama.

Status: Open.

Agenda

Approval of minutes of meeting held on March 19, 2003.

New Business

C—Energy

C1. Three spot coal contracts—two with Appalachian Fuels LLC and one with ALPHA Natural Resources—to supply low-sulfur coal for 18 months to Bull Run and Kingston Fossil Plants.

C2. Contract with Shaw Environmental & Infrastructure, Inc., to provide services for containment and recovery of oil and hazardous material spills.

C3. Supplement to blanket contract 4296 with Valley Mechanical Alliance for heating, ventilation, and air-conditioning equipment and services.

C4. Contract with Allied Welding and Safety Supply Company, LLC, for welding supplies and equipment.

C5. Contract with Westinghouse Electric Company, LLC, for outage services and parts at Sequoyah Nuclear Plant Units 1 and 2 and Watts Bar Nuclear Plant Unit 1.

C6. Supplement to contract with Schweitzer Engineering Laboratories for distance relays.

C7. Contract with Morpac Industries and Alstom for 500kV vertical reach switches.

E—Real Property Transactions

E1. Modification of certain deed restrictions affecting approximately 0.07 acre of former TVA land on Chickamauga Reservoir in Hamilton County, Tennessee, Tract No. XCR-39, S.4X.

E2. Abandonment of a portion of the retired Centerville-McEwen 44kV transmission line right-of-way easement affecting approximately 0.43 acre of land in Humphreys County, Tennessee, Tract No. CMC-62.

E3. Nineteen-year commercial recreation lease to Hollis B. DeWitt affecting approximately 23 acres of land on Fort Loudoun Reservoir in Loudon County, Tennessee (formerly operated as Yarberry Recreation Area), Tract No. XFL-134L.

E4. Grant of a permanent easement to the State of Tennessee for a highway improvement project affecting approximately 0.75 acre of land on Watts Bar Reservoir in Roane County, Tennessee, Tract No. XTWBR-145H.

E5. Transfer of approximately 8.25 acres of Beech River Project property in Henderson County, Tennessee, Tract No. XTBRPIC-2RE, to the Beech River Watershed Development Authority.

E6. Sale of a permanent easement to Dr. James E. Lee for a road and utilities access affecting approximately 0.53 acre of land on Kentucky Reservoir in Decatur County, Tennessee, Tract No. XGIR-940H.

F—Other

F1. Approval to file condemnation cases to acquire transmission line easements and rights of way affecting Tract Nos. RSCP-149, Rock Springs-Center Point Transmission Line, Whitfield County, Georgia; TRYC-25, TRYC-36, TRYC-50, TRYC-54, TRYC-63, TRYC-65, TRYC-66. TRYC-71, TRYC-74, TRYC-89, TRYC-99, Youngcane-Toccoa Transmission Line, Fannin County, Georgia; tree-removal rights affecting Tract Nos. TRYC-43-CR and TRYC-49B-CR, Youngcane-Toccoa Transmission Line, Fannin County, Georgia; transmission line switching structure and access road affecting Tract Nos. 2PMNS-1 and -1AR, Hickory Valley-Selmer Tap to North Selmer Transmission Line, McNairy County, Tennessee; and communication circuit easement and right-of-way affecting Tract No. ASFOS-1, Alcoa, Tennessee, Switching Station, Blount County, Tennessee.

Information Items

1. Approval of a revision to the cooperative agreement with Memphis, Light, Gas and Water to support a lo-income energy conservation demonstration in the MLGW service area.

2. Approval of the filing of a condemnation case to acquire the right to erect a transmission line switching structure on an existing right-of-way affecting Tract No. CHAN-34.AS.1 for the Cullman-Hanceville Transmission Line in Cullman County, Alabama.

3. Amendment to the Provisions of the TVA Savings and Deferral Retirement Plan (401(k) Plan) to provide for a lump-sum distribution to a participant, no longer employed by TVA, of a small 401(k) Plan account balance (less than $5,000).

4. Delegation of authority to the Chief Financial Officer, or a designee, to enter into agreements with financial institutions for the sale of accounts receivable that result from electric system projects for TVA's customers.

5. Approval of INVESCO Institutional (N.A.), Inc. as a new investment manager for the TVA Retirement System and approval of the investment management agreement between the Retirement System and the new investment manager.

FOR FURTHER INFORMATION CONTACT: Please call TVA Media Relations at (865) 632-6000, Knoxville, Tennessee. Information is also available at TVA's Washington Office (202) 898-2999. People who plan to attend the meeting and have special needs should call (865) 632-6000. Anyone who wishes to comment on any of the agenda in writing may send their comments to: TVA Board of Directors, Board Agenda Comments, 400 West Summit Hill Drive, Knoxville, Tennessee 37902.

Dated: May 14, 2003.
Maureen H. Dunn,
General Counsel and Secretary.

[FR Doc. 03-12532 Filed 5-15-03; 10:08 am]

BILLING CODE 8120-08-P